NUCLEAR REGULATORY COMMISSION

[NRC-2009-0289; NRC-2009-0292; NRC-2009-0293; NRC-2009-0290; NRC-2009-0291; NRC-2009-0287; NRC-2009-0286; NRC-2009-0285; NRC-2009-0294; NRC-2009-0288; NRC-2009-0284; NRC-2009-0295]

Notice of Withdrawal of an Application for Indirect License Transfer Resulting From the Proposed Merger Between Exelon Corporation and NRG Energy, Inc., and Opportunity for a Hearing

Exelon Generation Company, LLC, Braidwood Station, Units 1 and 2, Docket Nos. 50-456 and 50-457; [NRC-2009-0289], Byron Station, Units 1 and 2, Docket Nos. 50-454 and 50-455; [NRC-2009-0292], Clinton Power Station, Docket No. 50-461; [NRC-2009-0293], Dresden Nuclear Power Station, Units 1, 2, and 3, Docket Nos. 50-10, 50-237, and 50-249; [NRC-2009-0290], Lasalle County Station, Units 1 and 2, Docket Nos. 50-373 and 50-374; [NRC-2009-0291], Limerick Generating Station, Units 1 and 2, Docket Nos. 50-352 and 50-353; [NRC-2009-0287], Oyster Creek Generating Station, Docket No. 50-219; [NRC-2009-0286], Peach Bottom Atomic Power Station, Units 1, 2, and 3, Docket Nos. 50-171, 50-277, and 50-278; [NRC-2009-0285], Quad Cities Nuclear Power Station, Units 1 and 2, Docket Nos. 50-254 and 50-265; [NRC-2009-0294], Salem Generating Station, Units 1 and 2, Docket Nos. 50-272 and 50-311; [NRC-2009-0288], Three Mile Island Nuclear Station, Unit 1, Docket No. 50-289; [NRC-2009-0284], Zion Nuclear Power Station, Units 1 and 2, Docket Nos. 50-295 and 50-304 [NRC-2009-0295].

The U.S. Nuclear Regulatory Commission (the Commission, NRC) has granted the request of Exelon Corporation (the applicant, Exelon), the parent company to Exelon Generation Company, LLC (hereafter, EGC; the licensee for the subject plants), to withdraw its January 29, 2009, application, as supplemented by letter dated March 18, 2009, for the proposed indirect transfer of the Facility Operating Licenses for the following reactor units:

Braidwood Station, Units 1 and 2, Facility Operating License Nos. NPF-72 and NPF-77;

Byron Station, Units 1 and 2, Facility Operating License Nos. NPF-37 and NPF-66;

Clinton Power Station, Facility Operating License No. NPF-62;

Dresden Nuclear Power Station, Units 1, 2 and 3, Facility Operating License No. DPR-2 and Renewed Facility Operating License Nos. DPR-19 and DPR-25;

LaSalle County Station, Units 1 and 2, Facility Operating License Nos. NPF-11 and NPF-18;

Limerick Generating Station, Units 1 and 2, Facility Operating License Nos. NPF-39 and NPF-85;

Oyster Creek Generating Station, Facility Operating License No. DPR-16;

Peach Bottom Atomic Power Station, Units 1, 2 and 3, Facility Operating License No. DPR-12 and Renewed Facility Operating License Nos. DPR-44 and DPR-56;

Quad Cities Nuclear Power Station, Units 1 and 2, Renewed Facility Operating License Nos. DPR-29 and DPR-30;

Salem Generating Station, Units 1 and 2, Facility Operating License Nos. DPR-70 and DPR-75;

Three Mile Island Nuclear Station, Unit 1, Facility Operating License No. DPR-50; and

Zion Nuclear Power Station, Units 1 and 2, Facility Operating License Nos. DPR-39 and DPR-48.

The application sought the Commission's consent to the indirect transfer to NRG Energy Inc. (NRG), of control of the subject licenses, to the extent held by EGC.

The Commission had previously issued notices of consideration of approval of an application for indirect license transfer for each of the above-referenced facilities as published in the Federal Register on July 9, 2009 (74 FR 32975, 74 FR 32962, 74 FR 32976, 74 FR 32981, 74 FR 32978, 74 FR 32965, 74 FR 32971, 74 FR 32973, 74 FR 32968, 74 FR 32963, 74 FR 32979, and 74 FR 32970). However, by letter dated July 30, 2009, the applicant withdrew the request for approval.

For further details with respect to this action, see the application dated January 29, 2009, as supplemented by letter dated March 18, 2009, and the applicant's letter dated July 30, 2009, which withdrew the request for NRC approval of the indirect license transfer. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 31st day of August 2009.
For the Nuclear Regulatory Commission.
Christopher Gratton,
Senior Project Manager, Plant Licensing Branch III-2, Division of Operating Reactor Licensing, Office of Nuclear Reactor Regulation.

[FR Doc. E9-21697 Filed 9-8-09; 8:45 am]

BILLING CODE 7590-01-P